DEPARTMENT OF THE TREASURY

Office of Foreign Assets Control

Unblocking of Specially Designated National Pursuant to Executive Order 13224

AGENCY: Office of Foreign Assets Control, Treasury.

ACTION: Notice.

SUMMARY: The Treasury Department's Office of Foreign Assets Control (“OFAC”) is removing the names of one individual and twelve entities from the list of Specially Designated Nationals and Blocked Persons whose property and interests in property have been blocked pursuant to Executive Order 13224 of September 23, 2001, Blocking Property and Prohibiting Transactions With Persons Who Commit, Threaten To Commit, or Support Terrorism. The individual, Ahmed Idris NASREDDIN, was designated pursuant to Executive Order 13224 on April 19, 2002. The twelve entities: AKIDA BANK PRIVATE LIMITED, AKIDA INVESTMENT CO. LTD. GULF CENTER S.R.L., MIGA-MALAYSIAN SWISS, GULF AND AFRICAN CHAMBER; NASCO BUSINESS RESIDENCE CENTER SAS DI NASREDDIN AHMED IDRIS EC, NASCO NASREDDIN HOLDING A.S., NASCOSERVICE S.R.L., NASCOTEX S.A., NASREDDIN COMPANY NASCO SAS DI AHMED IDRIS NASREDDIN EC, NASREDDIN FOUNDATION, NASREDDIN GROUP INTERNATIONAL HOLDING LIMITED, NASREDDIN INTERNATIONAL GROUP LIMITED HOLDING; were designated pursuant to Executive Order 13224 on August 28, 2002.

DATES: The removal of the one individual and twelve entities from the list of Specially Designated Nationals and Blocked Persons whose property and interests in property have been blocked pursuant to Executive Order 13224 is effective as of Thursday, November 15, 2007.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on-demand service, tel.: 202/622-0077.

Background

On September 23, 2001, the President issued Executive Order 13224 (the “Order”) pursuant to the International Emergency Economic Powers Act, 50 U.S.C. 1701-1706, and the United Nations Participation Act of 1945, 22 U.S.C. 287c, imposing economic sanctions on persons who commit, threaten to commit, or support acts of terrorism. The President identified in the Annex to the Order various individuals and entities as subject to the economic sanctions. The Order authorizes the Secretary of the Treasury, in consultation with the Secretary of State, the Attorney General, and (pursuant to Executive Order 13284) the Secretary of the Department of Homeland Security, to designate additional persons or entities determined to meet certain criteria set forth in Executive Order 13224.

On April 19, 2002, one additional person and, on August 28, 2002, twelve additional entities were designated by the Secretary of the Treasury. The Department of the Treasury's Office of Foreign Assets Control has determined that these individuals and entities no longer meet the criteria for designation under the Order and are appropriate for removal from the list of Specially Designated Nationals and Blocked Persons.

The following designations are removed from the list of Specially Designated Nationals and Blocked Persons:

1. NASREDDIN, Ahmed Idris (a.k.a. NASREDDIN, Ahmad I.; a.k.a. NASREDDIN, Hadj Ahmed; a.k.a. NASREDDINE, Ahmed Idriss), Corso Sempione 69, 20149 Milan, Italy; 1 via delle Scuole, 6900 Lugano, Switzerland; Piazzale Biancamano, Milan, Italy; Rue de Cap Spartel, Tangiers, Morocco; DOB 22 Nov 1929; POB Adi Ugri, Ethiopia; Italian Fiscal Code NSRDRS29S22Z315Y.

2. AKIDA BANK PRIVATE LIMITED (f.k.a. AKIDA ISLAMIC BANK INTERNATIONAL LIMITED; f.k.a. IKSIR INTERNATIONAL BANK LIMITED), c/o Arthur D. Hanna & Company; 10 Deveaux Street, Nassau, Bahamas, The; P.O. Box N-4877, Nassau, Bahamas, The.

3. AKIDA INVESTMENT CO. LTD. (f.k.a. AKIDA BANK PRIVATE LIMITED; a.k.a. AKIDA INVESTMENT COMPANY LIMITED), c/o Arthur D. Hanna & Company, 10 Deveaux Street, Nassau, Bahamas, The; P.O. Box N-4877, Nassau, Bahamas, The.

4. GULF CENTER S.R.L., Corso Sempione 69, 20149 Milan, Italy; Italian Fiscal Code 07341170152; V.A.T. Number IT 07341170152.

5. MIGA-MALAYSIAN SWISS, GULF AND AFRICAN CHAMBER (f.k.a. GULF OFFICE ASSOC. PER LO SVILUPPO COMM. IND. E TURIS. FRA GLI STATI ARABI DEL GOLFO E LA SVIZZERA), Via Maggio 21, 6900 Lugano TI, Switzerland.

6. NASCO BUSINESS RESIDENCE CENTER SAS DI NASREDDIN AHMED IDRIS EC (n.k.a. HOTEL NASCO), Corso Sempione 69, 20149 Milan, Italy; Italian Fiscal Code 01406430155; V.A.T. Number IT 01406430155.

7. NASCO NASREDDIN HOLDING A.S., Zemin Kat, 219 Demirhane Caddesi, Zeytinburnu, Istanbul, Turkey.

8. NASCOSERVICE S.R.L., Corso Sempione 69, 20149 Milan, Italy; Italian Fiscal Code 08557650150; V.A.T. Number IT 08557650150.

9. NASCOTEX S.A. (a.k.a. INDUSTRIE GENERALE DE FILATURE ET TISSAGE; a.k.a. INDUSTRIE GENERALE DE TEXTILE), KM 7 Route de Rabat, BP 285, Tangiers, Morocco; KM 7 Route de Rabat, Tangiers, Morocco.

10. NASREDDIN COMPANY NASCO SAS DI AHMED IDRIS NASREDDIN EC, Corso Sempione 69, 20149 Milan, Italy; Italian Fiscal Code 03464040157; V.A.T. Number IT 03464040157.

11. NASREDDIN FOUNDATION (a.k.a. NASREDDIN STIFTUNG), c/o Rechta Treuhand-Anstalt, Vaduz, Liechtenstein.

12. NASREDDIN GROUP INTERNATIONAL HOLDING LIMITED (a.k.a. NASREDDIN GROUP INTERNATIONAL HOLDINGS LIMITED), c/o Arthur D. Hanna & Company; 10 Deveaux Street, Nassau, Bahamas, The; P.O. Box N-4877, Nassau, Bahamas, The.

13. NASREDDIN INTERNATIONAL GROUP LIMITED HOLDING (a.k.a. NASREDDIN INTERNATIONAL GROUP LTD. HOLDING), c/o Rechta Treuhand-Anstalt, Vaduz, Liechtenstein; Corso Sempione 69, 20149, Milan, Italy.

The removal of the one individual's and twelve entities' names from the list of Specially Designated Nationals and Blocked Persons is effective as of Thursday, November 15, 2007. All property and interests in property of the one individual and twelve entities that are in or hereafter come within the United States or the possession or control of United States persons are now unblocked.

Dated: November 14, 2007.
Adam J. Szubin,
Director, Office of Foreign Assets Control.

[FR Doc. E7-22897 Filed 11-21-07; 8:45 am]

BILLING CODE 4811-45-P